DEPARTMENT OF COMMERCE

National Oceanic and Atmospheric Administration

[I.D. 062904B]

South Atlantic Fishery Management Council; Public Meetings

AGENCY: National Marine Fisheries Service (NMFS), National Oceanic and Atmospheric Administration, Commerce.

ACTION: Notice of public hearings.

SUMMARY: The South Atlantic Fishery Management Council (Council) will convene public hearings regarding the proposed Amendment 6 to the Shrimp Fishery Management Plan (FMP). The plan amendment addresses the following: The requirements for a Federal penaeid (white, pink and brown) shrimp permit in order to fish for or possess penaeid shrimp in the South Atlantic Exclusive Economic Zone (EEZ); minimizing bycatch in the rock shrimp fishery to the extent practicable; Revising, establishing, and/or retaining status determination criteria for penaeid and rock shrimp stocks; Amendment of the Bycatch Reduction Device (BRD) Testing Protocol system; adjusting the criteria certification of new BRDs; and establishing of a method to monitor and assess bycatch in the South Atlantic rock and penaeid shrimp fisheries.

DATES: The public hearings will be held July 26 - August 10, 2004. See SUPPLEMENTARY INFORMATION for the specific dates and times of the public hearings. Written comments must be received in the Council office by August 13, 2004.

ADDRESSES: Written comments should be sent to Bob Mahood, Executive Director, South Atlantic Fishery Management Council, One Southpark Circle, Suite 306, Charleston, SC 29407-4699, or via email to shrimpcomments@safmc.net. Copies of the Public Hearing Document are available from Kim Iverson, South Atlantic Fishery Management Council, One Southpark Circle, Suite 306, Charleston, SC 29407-4699; telephone: 843-571-4366 or toll free at 866/SAFMC-10.

FOR FURTHER INFORMATION CONTACT: Kim Iverson, South Atlantic Fishery Management Council, One Southpark Circle, Suite 306, Charleston, SC 29407-4699; telephone: 843-571-4366; fax: 843-769-4520; email address: kim.iverson@safmc.net.

SUPPLEMENTARY INFORMATION:

Meeting Dates and Locations

All meetings are scheduled to begin at 6 p.m. Public hearings will be held at the following locations:

1. Tuesday, July 26, 2004, Town & Country Inn, 2008 Savannah Highway, Charleston, SC 29407; telephone: (843) 571-1000;

2. Monday, August 2, 2004, Richmond Hill City Hall, 40 Richard R. Davis Drive, Richmond Hill, GA 31324; telephone: (912) 756-3354;

3. Tuesday, August 3, 2004, Radisson Resort at the Port, 8701 Astronaut Blvd., Cape Canaveral, FL 34949; telephone: (321) 784-0000;

4. Thursday, August 5, 2004, Crown Plaza La Concha, 430 Duval Street, Key West, FL 33040; telephone: (305) 296-2991;

5. Monday, August 9, 2004, Cooperative Extension, 25 Referendum Road, Bldg. N, Bolivia, NC 28422; telephone: (910) 253-2610; and

6. Tuesday, August 10, 2004, DENR Regional Office, 943 Washington Square Mall, Washington, NC 27889; telephone: (252) 946-6481.

Special Accommodations

These meetings are physically accessible to people with disabilities. Requests for sign language interpretation or other auxiliary aids should be directed to the Council office (see ADDRESSES) by July 23, 2004.

Dated: June 30, 2004.
Alan D. Risenhoover,
Acting Director, Office of Sustainable Fisheries, National Marine Fisheries Service.

[FR Doc. E4-1474 Filed 7-2-04; 8:45 am]

BILLING CODE 3510-22-S